DEPARTMENT OF ENERGY

10 CFR Part 1045

Nuclear Classification and Declassification

CFR Correction

In Title 10 of the Code of Federal Regulations, Part 500 to End, revised as of January 1, 2009, on page 979, in § 1045.14, in paragraph (a)(1) introductory text, remove “DOE Director of Declassification” and add in its place “Director of Classification”.

[FR Doc. E9-30495 Filed 12-21-09; 8:45 am]

BILLING CODE 1505-01-D